DEPARTMENT OF HOMELAND SECURITY

Coast Guard

33 CFR Part 165

[Docket No. USCG-2010-0950]

Safety Zone, Brandon Road Lock and Dam to Lake Michigan Including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone; Brandon Road Lock and Dam to Lake Michigan including Des Plaines River, Chicago Ship and Sanitary Canal, Chicago River, Calumet-Saganashkee Channel on all waters of the Chicago Sanitary and Ship Canal between Mile Marker 291.0 and Mile Marker 296.1 from 4 p.m. on October 19, 2010 to 12 p.m. on October 20, 2010 and from 4 p.m. on October 20, 2010 to 10 a.m. on October 21, 2010. This action is necessary to protect the waterways, waterway users, and vessels from hazards associated with intensive fish sampling efforts in the Lockport pool to be conducted by the Illinois Department of Natural Resources (IDNR). These sampling efforts will include the setting of nets throughout this portion of the Chicago Sanitary and Ship Canal. The purpose of this sampling is to provide essential information in connection with efforts to control the spread of aquatic nuisance species that might devastate the waters of the Chicago Sanitary and Ship Canal.

During the enforcement period, entry into, transiting, mooring, laying-up or anchoring within the enforced area of this safety zone by any person or vessel is prohibited unless authorized by the Captain of the Port, Sector Lake Michigan, or his or her designated representative.

DATES: The regulations in 33 CFR 165.T09-0166 will be enforced from 4 p.m. on October 19, 2010 to 12 p.m. on October 20, 2010 and from 4 p.m. on October 20, 2010 to 10 a.m. on October 21, 2010.

FOR FURTHER INFORMATION CONTACT: If you have questions on this notice, call or e-mail CDR Tim Cummins, Deputy Prevention Division, Ninth Coast Guard District, telephone 216-902-6045,e-mail address Timothy.M.Cummins@uscg.mil.

SUPPLEMENTARY INFORMATION: The Coast Guard will enforce Safety Zone, Brandon Road Lock and Dam to Lake Michigan including Des Plaines River, Chicago Sanitary and Ship Canal, Chicago River, Calumet-Saganashkee Channel, Chicago, IL listed in 33 CFR 165.T09-0166(a)(2), on all waters of the Chicago Sanitary and Ship Canal between Mile Marker 291.0 and Mile Marker 296.1 from 4 p.m. on October 19, 2010 to 12 p.m. on October 20, 2010 and then again from 4 p.m. on October 20, 2010 to 10 a.m. on October 21, 2010.

This enforcement action is necessary because the Captain of the Port, Sector Lake Michigan has determined that the IDNR fish sampling effort poses risks to life and property. Specifically, there will be congested waterways and the extensive placement of nets throughout the portion of the Chicago Sanitary and Ship Canal between Mile Marker 291.0 and Mile Marker 296.1. The combination of vessel traffic, nets, and electric current in the water makes the control of vessels through the impacted portion of the Chicago Sanitary and Ship Canal necessary to prevent injury and property loss.

In accordance with the general regulations in § 165.23 of this part, entry into, transiting, mooring, laying up, or anchoring within the enforced area of this safety zone by any person or vessel is prohibited unless authorized by the Captain of the Port, Sector Lake Michigan, or his or her designated representative.

This notice is issued under authority of 33 CFR 165.T09-0166 and 5 U.S.C. 552(a). In addition to this notice in the Federal Register, the Captain of the Port, Sector Lake Michigan, will also provide notice through other means, which may include but are not limited to Broadcast Notice to Mariners, Local Notice to Mariners, local news media, distribution in leaflet form, and on-scene oral notice. Additionally, the Captain of the Port, Sector Lake Michigan, may notify representatives from the maritime industry through telephonic and e-mail notifications.

Dated: October 5, 2010.
L. Barndt,
Captain, U.S. Coast Guard, Captain of the Port, Sector Lake Michigan.

[FR Doc. 2010-26213 Filed 10-18-10; 8:45 am]

BILLING CODE 9110-04-P